DEPARTMENT OF THE INTERIOR

Fish and Wildlife Service

[FWS-R6-ES-2017-N171; FXES11130600000-178-FF06E00000]

U.S. Endangered Species; Receipt of Recovery Permit Application

AGENCY: Fish and Wildlife Service, Interior.

ACTION: Notice of receipt of permit application; request for comments.

SUMMARY: We, the U.S. Fish and Wildlife Service, invite the public to comment on an application for a permit to conduct activities intended to enhance the propagation or survival of an endangered species. With some exceptions, the Endangered Species Act (ESA) prohibits activities that constitute take of listed species unless a Federal permit is issued that allows such activity. The ESA also requires that we invite public comment before issuing these permits.

DATES: We must receive your written comments by May 11, 2018.

ADDRESSES: Document availability: The application, as well as any comments and other materials that we receive, will be available for public inspection in hard copy for viewing by appointment between 8 a.m. and 4 p.m. Monday through Friday, except Federal holidays, at Ecological Services, U.S. Fish and Wildlife Service, 134 Union Blvd., Suite 645, Lakewood, CO 80228; telephone 303-236-4224.

Submitting comments: You may submit comments by one of the following methods. Please specify the applicant's name and the application number (TE59243C-0).

• Email: permitsR6ES@fws.gov. Please refer to the permit number (Application No. TE59243C-0) in the subject line of your email message.

• U.S. mail: Ecological Services, U.S. Fish and Wildlife Service, P.O. Box 25486-DFC, Denver, CO 80225.

• Hand-delivery, Pickup, or Viewing: Call 303-236-4224 to make an appointment during regular business hours at 134 Union Blvd., Suite 645, Lakewood, CO 80228.

FOR FURTHER INFORMATION CONTACT: Kathy Konishi, Recovery Permits Coordinator, Ecological Services, 303-236-4224 (phone); permitsR6ES@fws.gov (email).

SUPPLEMENTARY INFORMATION: We, the U.S. Fish and Wildlife Service, invite the public to comment on an application for a permit to conduct activities intended to promote recovery of a species that is listed as endangered under the Endangered Species Act (16 U.S.C. 1531 et seq,; ESA). The ESA and our implementing regulations in part 17 of title 50 of the Code of Federal Regulations (CFR) provide for the issuance of such permits and require that we invite public comment before issuing permits for activities involving endangered species.

Background

The ESA prohibits certain activities with endangered and threatened species unless authorized by a Federal permit. A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Application Available for Review and Comment

We invite local, State, and Federal agencies, Tribes, and the public to comment on the following application:

Permit Application Number TE59243C-0

Applicant: Revive and Restore, Sausalito, CA.

The applicant requests a permit to conduct “Phase 1” of a multi-phase process to generate disease-resistant black-footed ferrets (Mustela nigripes). This phase would involve research in laboratories located in North Rose, NY, and San Diego, CA. The studies aim to develop, test, and optimize model cisgenic and novel disease-resistance pathways in the black-footed ferret, both in vitro and in vivo, leveraging domestic ferret resources for comparative genomics, comparative proteomics, and interspecies somatic cell nuclear transfer (iSCNT) reproductive techniques for the purpose of enhancing the species' survival.

Integration of genetically modified black-footed ferrets into wild populations would require careful execution and constitutes “Phase 2” of the long-term program.

Public Availability of Comments

Before including your address, phone number, email address, or other personal identifying information in your comment, you should be aware that your entire comment—including your personal identifying information—may be made publicly available at any time. If you submit a hardcopy comment that includes personal identifying information, you may request at the top of your document that we withhold this information from public review; however, we cannot guarantee that we will be able to do so.

Contents of Public Comments

Please make your comments as specific as possible and explain the basis for your comments. Include sufficient information to allow us to authenticate any scientific or commercial data you include.

The comments and recommendations that will be most useful and likely to influence agency decisions are: (1) Those supported by quantitative information or studies; and (2) Those that include citations to, and analyses of, the applicable laws and regulations.

Next Steps

If we decide to issue a permit to the applicant listed in this notice, we will publish a notice in the Federal Register.

Authority: We publish this notice under section 10(c) of the Endangered Species Act of 1973, as amended (16 U.S.C. 1531 et seq.)

Michael Thabault,
Assistant Regional Director, Mountain-Prairie Region.

[FR Doc. 2018-07446 Filed 4-10-18; 8:45 am]

BILLING CODE 4333-15-P